NATIONAL CREDIT UNION ADMINISTRATION

Sunshine Act: Notice of Agency Meeting

TIME AND DATE: 10:00 a.m., Thursday, May 25, 2017.

PLACE: Board Room, 7th Floor, Room 7047, 1775 Duke Street (All visitors must use Diagonal Road Entrance), Alexandria, VA 22314-3428.

STATUS: Open.

MATTERS TO BE CONSIDERED:

1. Corporate Stabilization Fund Quarterly Report.

2. NCUA's Rules and Regulations, Supervisory Review Committee.

3. NCUA's Rules and Regulations, Appeals Procedures.

4. NCUA's Rules and Regulations, Voluntary Mergers of Federal Credit Unions.

RECESS: 11:30 a.m.

TIME AND DATE: 11:45 a.m., Thursday, May 25, 2017.

PLACE: Board Room, 7th Floor, Room 7047, 1775 Duke Street, Alexandria, VA 22314-3428.

STATUS: Closed.

MATTERS TO BE CONSIDERED:

1. Supervisory Action. Closed pursuant to Exemption (8).

2. Supervisory Review Committee Appeal. Closed pursuant to Exemption (8).

3. Supervisory Action. Closed pursuant to Exemptions (8), (9)(i)(B), and (9)(ii).

4. Briefing on Supervisory Matter. Closed pursuant to Exemptions (8), (9)(i)(B), and (9)(ii).

FOR FURTHER INFORMATION CONTACT: Gerard Poliquin, Secretary of the Board, Telephone: 703-518-6304.

Gerard Poliquin,
Secretary of the Board.

[FR Doc. 2017-10524 Filed 5-18-17; 4:15 pm]

BILLING CODE 7535-01-P